DEPARTMENT OF DEFENSE

Office of the Secretary

Senior Executive Service Performance Review Board

AGENCY: Department of Defense Office of the Inspector General.

ACTION: Notice.

SUMMARY: This notice announces the appointment of the members of the Senior Executive Service (SES) Performance Review Board (PRB) for the Department of Defense Office of the Inspector General (DoD OIG), as required by 5 U.S.C. 4314(c)(4). The PRB provides fair and impartial review of SES performance appraisals and makes recommendations regarding performance ratings and performance awards to the Inspector General.

DATES: October 20, 2005.

FOR FURTHER INFORMATION CONTACT: Mr. Michael Peterson, Director, Human Capital Management Directorate, Office of the Chief of Staff, OIG DoD, 400 Army Navy Drive, Arlington, VA 22202, (703) 602-4516.

SUPPLEMENTARY INFORMATION: In accordance with 5 U.S.C. 4314(c)(4), the following executives are appointed to the DoD OIG, PRB:

Charles W. Beardall, Director, Defense Criminal Investigative Service, Assistant Inspector General for Investigations, ODIG-INV.

Patricia A. Brannin, Assistant Inspector General for Audit Policy and Oversight, ODIG-I&P.

Paul J. Granetto, Assistant Inspector General for Defense Financial Auditing Service, ODIG-AUD.

L. Jerry Hansen, Deputy Inspector General for Inspections and Policy.

Melissa Heist, Assistant Inspector General for Audit, Environmental Protection Agency.

Donald M. Horstman, Director of Investigations of Senior Officials, ODIG-INV.

William B. Morrison, Assistant Inspector General for Inspections and Evaluations, ODIG-I&P.

Richard T. Race, Deputy Inspector General for Investigations.

Francis E. Reardon, Deputy Inspector General for Auditing.

George Rippey, Deputy Assistant Inspector General for Audit Services, Department of Education.

Linda Snider, Director for Audit Policy and Administration Sanford Parnes Counsel to the Inspector General, Department of Energy.

Mary L. Ugone, Assistant Inspector General for Acquisition and Technology Management, ODIG-AUD.

R. Keith West, Assistant Inspector General for Audit Follow-Up and Technical Support, ODIG-AUD.

Eugene L. Waszily, Assistant Inspector General for Auditing, General Services Administration.

Daniel F. Willkens, Deputy Director, Defense Criminal Investigative Service, ODIG-INV.

Shelton R. Young, Assistant Inspector General for Intelligence, ODIG-INTEL.

Dated: October 18, 2005.
L.M. Bynum,
Alternate OSD Federal Register Liaison Officer, Department of Defense.

[FR Doc. 05-21183 Filed 10-21-05; 8:45 am]

BILLING CODE 5001-06-M